DEPARTMENT OF HOMELAND SECURITY

[Docket ID: CISA-2022-0010]

Cyber Incident Reporting for Critical Infrastructure Act of 2022: Washington, DC Listening Session

AGENCY: Cybersecurity and Infrastructure Security Agency, Department of Homeland Security.

ACTION: Notice of public listening session.

SUMMARY: The Cybersecurity and Infrastructure Security Agency (CISA) is announcing one additional public listening session located in Washington, DC to receive input on the forthcoming proposed regulations required by the Cyber Incident Reporting for Critical Infrastructure Act of 2022 (CIRCIA). This session will allow interested parties to provide input to CISA on the same key areas of interest published in the Federal Register on September 12, 2022.

DATES: An additional public listening session is scheduled to be held on the following date and time at the following location:

Washington, DC—October 19, 2022; 11:00 a.m.-3:00 p.m.; Metropolitan Washington Council of Governments Building, 777 North Capitol Street NE, Washington, DC 20002.

CISA reserves the right to reschedule, move to virtual, or cancel this session for any reason, including a health emergency, severe weather, or an incident that impacts the ability of CISA to safely conduct the session in person at the proposed date, time, and location. Any change to the date, location, or start and end time for this listening session will be posted on www.cisa.gov/circia.

CISA is committed to ensuring all participants have equal access to this session regardless of disability status. If you require reasonable accommodation due to a disability to fully participate, please contact CISA at circia@cisa.dhs.gov or (202) 964-6869 as soon as possible prior to the session.

Registration is encouraged for this public listening session and priority access will be given to individuals who register. To register, please visit www.cisa.gov/circia and follow the instructions available there to complete registration. Registration for the session will be accepted until 5:00 p.m. (Eastern Daylight Time) two days before the session.

FOR FURTHER INFORMATION CONTACT: Todd Klessman, CIRCIA Rulemaking Team Lead, circia@cisa.dhs.gov, 202-964-6869.

SUPPLEMENTARY INFORMATION: This public listening session is intended to serve as an additional means for interested parties located in Washington, DC to provide input to CISA on aspects of the proposed regulations to implement CIRCIA prior to the publication of the Notice of Proposed Rulemaking. CISA is particularly interested in receiving stakeholder input in the same key areas identified in section IV (Key Inputs Solicited by the Agency) of the Notice published in the Federal Register on September 12, 2022 87 FR 55830. This public listening session will also observe the same participation procedures provided in section III (Public Listening Session Procedures and Participation) of the same Federal Register Notice. 87 FR 55830 (Sept. 12, 2022).

CISA notes that this public meeting is being held solely for information and program-planning purposes. Inputs provided during the meeting do not bind CISA to any further actions.

Todd B. Klessman,
Senior Policy Advisor, Cybersecurity and Infrastructure Security Agency, Department of Homeland Security.

[FR Doc. 2022-21635 Filed 10-4-22; 8:45 am]

BILLING CODE P